DEPARTMENT OF LABOR

Mine Safety and Health Administration

Petitions for Modification

The following parties have filed petitions to modify the application of existing safety standards under section 101(c) of the Federal Mine Safety and Health Act of 1977.

1. Primrose Coal Company #2

[Docket No. M-2001-051-C]

Primrose Coal Company #2, 475 High Road, Ashland, Pennsylvania 17921 has filed a petition to modify the application of 30 CFR 75.1200(d) and (i) (mine maps) to its Buck Mountain Vein Slope (I.D. No. 36-08698) located in Schuylkill County, Pennsylvania. The petitioner proposes to use cross-sections instead of contour lines through the intake slope, at locations of rock tunnel connections between veins, and at 1,000 foot intervals of advance from the intake slope; and to limit the required mapping of the mine workings above and below to those present within 100 feet of the veins being mined except when veins are interconnected to other veins beyond the 100-foot limit through rock tunnels. The petitioner asserts that due to the steep pitch encountered in mining anthracite coal veins, contours provide no useful information and their presence would make portions of the map illegible. The petitioner further asserts that use of cross-sections in lieu of contour lines has been practiced since the late 1800's thereby providing critical information relative to the spacing between veins and proximity to other mine workings which fluctuate considerably. The petitioner asserts that the proposed alternative method would provide at least the same measure of protection as the existing standard.

2. Primrose Coal Company #2

[Docket No. M-2001-052-C]

Primrose Coal Company #2, 475 High Road, Ashland, Pennsylvania 17921 has filed a petition to modify the application of 30 CFR 75.1202 and 75.1202-1(a) (temporary notations, revisions, and supplements) to its Buck Mountain Vein Slope (I.D. No. 36-08698) located in Schuylkill County, Pennsylvania. The petitioner proposes to revise and supplement mine maps annually instead of every 6 months as required, and to update maps daily by hand notations. The petitioner also proposes to conduct surveys prior to commencing retreat mining and whenever a drilling program under 30 CFR 75.388 or plan for mining into inaccessible area under 30 CFR 75.389 is required. The petitioner asserts that the low production and slow rate of advance in anthracite mining make surveying on 6-month intervals impractical. The petitioner asserts that the proposed alternative method would provide at least the same measure of protection as the existing standard.

3. Coastal Coal Company, LLC

[Docket No. M-2001-053-C]

Coastal Coal Company, LLC, 117 Madison Avenue, Suite B, Whitesburg, Kentucky 41858 has filed a petition to modify the application of 30 CFR 75.503 (permissible electric face equipment; maintenance) and 30 CFR 18.41(f) (plug and receptacle-type connectors) to its Red Star Mine No. 1 (I.D. No. 15-18306), Hip-High Mine No. 1 (I.D. No. 15-17571), Lynn Branch Mine No. 1 (I.D. No. 15-17605), Black Thunder Mine No. 3 (I.D. No. 15-18161), and Koyle Branch Mine No. 1 (I.D. No. 15-07232) all located in Letcher County, Kentucky. The petitioner proposes to use a permanently installed spring-loaded device instead of a padlock on mobile battery-powered equipment to prevent unintentional loosening of battery plugs from battery receptacles and to eliminate hazards associated with difficult removal of padlocks during emergency situations. The petitioner asserts that the proposed alternative method would provide at least the same measure of protection as the existing standard.

4. Coastal Coal Company, LLC

[Docket No. M-2001-054-C]

Coastal Coal Company, LLC, 117 Madison Avenue, Whitesburg, Kentucky 41858 has filed a petition to modify the application of 30 CFR 75.900 (low-and medium-voltage circuits serving three-phase alternating circuits equipment; circuit breakers) to its Red Star Mine No. 1 (I.D. No. 15-18306), Hip-High Mine No. 1 (I.D. No. 15-17571), Lynn Branch Mine No. 1 (I.D. No. 15-17605), Black Thunder Mine No. 3 (I.D. No. 15-18161), and Koyle Branch Mine No. 1 (I.D. No. 15-07232) all located in Letcher County, Kentucky. The petitioner proposes to install contactors to obtain under-voltage protection in lieu of using circuit breakers. The petitioner has listed in the petition specific procedures that would be followed when its proposed alternative method is implemented. The petitioner asserts that the proposed alternative method would provide at least the same measure of protection as the existing standard.

5. Mountaineer Coal Development Company d.b.a Marrowbone Development Company

[Docket No. M-2001-055-C]

Marrowbone Development Company, P.O. Box 119, Naugatuck, West Virginia 25685 has filed a petition to modify the application of 30 CFR 75.1002 (location of trolley wires, trolley feeder wires, high-voltage cables and transformers) to its Dingess Tunnel No. 1 Deep (I.D. No. 46-08891) located in Mingo County, West Virginia. The petitioner proposes to use 2,400 volt AC-powered continuous mining equipment at its Dingess Tunnel No. 1 Deep Mine. The petitioner asserts that the proposed alternative method would provide at least the same measure of protection as the existing standard.

6. Speed Mining, Inc.

[Docket No. M-2001-056-C]

Speed Mining, Inc., 325 Harper Park Drive, Beckley, West Virginia 25801 has filed a petition to modify the application of 30 CFR 75.1002 (location of trolley wires, trolley feeder wires, high-voltage cables and transformers) to its American Eagle Mine (I.D. No. 46-05437) located in Kanawha County, West Virginia. The petitioner proposes to use high-voltage 4,160 volt cables on longwall equipment at its American Eagle Mine. The petitioner asserts that the proposed alternative method would provide at least the same measure of protection as the existing standard.

7. Turris Coal Company

[Docket No. M-2001-057-C]

Turris Coal Company, P.O. Box 21, Elkhart, Illinois 62634 has filed a petition to modify the application of 30 CFR 77.214(a) (refuse piles; general) to its Elkhart Mine (I.D. No. 11-02664) located in Logan County, Illinois. The petitioner proposes to backfill abandoned shafts with noncombustible materials and then cover with a concrete cap. The cap will then be covered with 18 inches of “CL” or “ML” soils compacted in 6″ lifts. Then the shaft and cap will be covered with maximum of 6o feet of course refuse. The petitioner states that the backfill materials would be of a nature, and placed in the shaft, in such a manner as to minimize settling. The petitioner asserts that the proposed alternative method would provide at least the same measure of protection as the existing standard.

8. Excel Mining, LLC

[Docket No. M-2001-058-C]

Excel Mining, LLC, HC 67 Box 615, Pilgrim, Kentucky 41250 has filed a petition to modify the application of 30 CFR 75.360(b)(5) (preshift examination at fixed intervals) Mine No. 3 (I.D. No. 15-08079) located in Pike County, Kentucky. The petitioner proposes to use an alternate method to monitor the quality of air passing the permanent seals that ventilate working sections to ensure constant monitoring of the mine atmosphere when miners are working in a ventilating current that has been used to ventilate a set of seals. The petitioner has outlined specific procedures in the petition that would be followed when its proposed alternative method is implemented. The petitioner asserts that the proposed alternative method would provide at least the same measure of protection as the existing standard.

9. Monterey Coal Company

[Docket No. M-2001-059-C]

Monterey Coal Company, 14300 Brushy Mound Road, Carlinville, Illinois 62626 has filed a petition to modify the application of 30 CFR 75.350 (air courses and belt haulage entries) to its No. 1 Mine (I.D. No. 11-00726) located in Macoupin County, Illinois. The petitioner requests a modification of the standard to permit the use of the belt conveyor entry to course intake air to ventilate active working places. The petitioner proposes to install safeguards, such as a carbon monoxide monitoring system in all belt entries used to course air to a working place as part of an early warning fire detection system. The petitioner asserts that the proposed alternative method would provide at least the same measure of protection as the existing standard.

10. Peabody Energy, Rivers Edge Mining, Inc.

[Docket No. M-2001-060-C]

Peabody Energy, Rivers Edge Mining, Inc., 202 Laidley Tower, P.O. Box 1233, Charleston, West Virginia 25324-1233 has filed a petition to modify the application of 30 CFR 75.1002 (location of trolley wires, trolley feeder wires, high-voltage cables and transformers) to its Rivers Edge Mine (I.D. No. 46-08890) located in Boone County, West Virginia. The petitioner proposes to use high-voltage 2,400 volt trailing cables in the last open crosscut at the working continuous miner section(s). The petitioner asserts that the proposed alternative method would provide at least the same measure of protection as the existing standard.

11. Cumberland River Coal Company

[Docket No. M-2001-061-C]

Cumberland River Coal Company, Pardee Complex, P.O. Drawer 109, Appalachia, Virginia 24216 has filed a petition to modify the application of 30 CFR 75.364(b)(2) & (4) (weekly examination) to its Band Mill Mine (I.D. No. 44-06816) located in Wise County, Virginia. Due to deteriorating roof conditions in certain areas of the return air course, traveling the affected area in its entirety to conduct weekly examinations would be unsafe. The petitioner proposes to establish two monitoring stations to evaluate the air entering and leaving the affected area of the return air course, and have a certified person examine the monitoring stations on a weekly basis and record the date, his/her initials, time of examination, and the quantity and quality of air in a book or on a date board that would be maintained on the surface of the mine and made accessible to all interested parties. The petitioner asserts that the proposed alternative method would provide at least the same measure of protection as the existing standard.

12. Eastern Associated Coal Corp.

[Docket No. M-2001-062-C]

Eastern Associated Coal Corp., 1970 Barrett Court, P.O. Box 1990, Henderson, Kentucky 42420 has filed a petition to modify the application of 30 CFR 75.1700 (oil and gas wells) to its Harris No. 1 Mine (I.D. No. 46-01271) located in Boone County, West Virginia. The petitioner proposes to plan to clean out and prepare oil and gas wells for plugging and to plug all wells that are encountered during normal operations at the Harris No. 1 Mine. The petitioner asserts that the proposed alternative method would provide at least the same measure of protection as the existing standard.

13. Tilden Mining Company L.C.

[Docket No. M-2001-003-M]

Tilden Mining Company, L.C., One Oxford Centre, 301 Grant Street, 20th Floor, Pittsburgh, Pennsylvania 15219-1410 has filed a petition to modify the application of 30 CFR 56.14131 (seat belts for haulage trucks) to its Tilden Mine (I.D. No. 20-00422) located in Marquette County, Michigan. The petitioner requests a modification of the existing standard to permit an alternate method of compliance for labeling seat belts. The petitioner proposes to equip its haul trucks with seatbelt/driver restraint systems which are manufactured, installed, and labeled in conformance with SAE J800C, SAE J386, subsequent amendments to those recommendations, or any other SAE recommendations applicable to seat belt/driver restraint systems. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before July 30, 2001. Copies of these petitions are available for inspection at that address.

Dated at Arlington, Virginia this 21st day of June 2001.
David L. Meyer,
Director, Office of Standards, Regulations, and Variances.

[FR Doc. 01-16274 Filed 6-27-01; 8:45 am]

BILLING CODE 4510-43-P